DEPARTMENT OF HEALTH AND HUMAN SERVICES

Administration for Children and Families

Statement of Organization, Functions, and Delegations of Authority; Office of Planning, Research and Evaluation

AGENCY: Administration for Children and Families, HHS.

ACTION: Notice.

SUMMARY: Statement of Organizations, Functions, and Delegations of Authority The Administration for Children and Families has realigned the Office of Planning, Research and Evaluation (OPRE). This notice establishes the Division of Family Strengthening within OPRE. It realigns research and evaluation functions among the three divisions of OPRE.

FOR FURTHER INFORMATION CONTACT: Naomi Goldstein, Director, Office of Planning, Research and Evaluation, 901 D Street SW., Washington, DC 20447, (202) 401-9220. This notice amends Part K of the Statement of Organization, Functions, and Delegations of Authority of the Department of Health and Human Services (DHHS), Administration for Children and Families (ACF) as follows: Chapter KM, as last amended, 75 FR 42760-42762, July 22, 2010.

I. Under Chapter KM, Office of Planning, Research and Evaluation, delete KM.00 Mission in its entirety and replace with the following:

KM.00 Mission. The Office of Planning, Research and Evaluation (OPRE) is the principal advisor to the Assistant Secretary for Children and Families on improving the effectiveness and efficiency of programs designed to make measurable improvements in the economic and social well-being of children and families.

OPRE provides guidance, analysis, technical assistance, and oversight to ACF programs and across programs in the agency on: strategic planning aimed at measurable results; performance measurement; research and evaluation methodologies; demonstration testing and model development; statistical, policy and program analysis; synthesis and dissemination of research and demonstration findings; and application of emerging technologies to improve the effectiveness of programs and service delivery. OPRE, through the Division of Economic Independence, the Division of Child and Family Development, and the Division of Family Strengthening, oversees and manages the research programs under sections 413, 429, 511, 1110, and 2008 of the Social Security Act and section 649 of the Head Start Act, as well as other research authorized by Congress and related to ACF programs and the populations they serve. Activities of OPRE include: Priority setting and analysis; managing and coordinating major cross-cutting, leading-edge studies and special initiatives; and collaborating with states, communities, foundations, professional organizations and others to promote the development of children, family-focused services, parental responsibility, employment, and economic independence. OPRE also provides coordination and leadership in implementing the Government Performance and Results Act Modernization Act (GPRAMA).

II. Under Chapter KM, Office of Planning, Research and Evaluation, delete KM.10 Organization in its entirety and replace with the following:

KM.10 Organization. OPRE is headed by a Director, who reports to the Assistant Secretary for Children and Families. The Office is organized as follows:

Office of the Director (KMA)

Division of Economic Independence (KMB)

Division of Child and Family Development (KMC)

Division of Family Strengthening (KMD)

III. Under Chapter KM, Office of Planning, Research and Evaluation, delete KM.20, Functions, Paragraph C in its entirety and replace with the following:

C. The Division of Child and Family Development, in cooperation with ACF programs and others, works with Federal counterparts, States, community agencies, and the private sector to: Improve the effectiveness and efficiency of programs; and foster sound growth and development of children and their families.

The Division provides guidance, analysis, technical assistance and oversight in ACF on: strategic planning and performance measurement for all ACF programs, including child and family development; statistical, policy and program analysis; surveys, research and evaluation methodologies; demonstration testing and model development; synthesis and dissemination of research and demonstration findings; and application of emerging technologies to improve the effectiveness of programs and service delivery.

The Division conducts, manages, and coordinates major cross-program, leading-edge research, demonstration, and evaluation studies; develops policy-relevant research priorities; and manages and conducts statistical, policy, and program analyses related to children and families. Division staff also provides consultation, coordination, direction and support for research activities related to children and families across ACF programs.

IV. Under Chapter KM, Office of Planning, Research and Evaluation, add KM.20 Functions, Paragraph D as follows:

D. The Division of Family Strengthening, in cooperation with ACF programs and others, works with Federal counterparts, States, community agencies, and the private sector to: Improve the effectiveness and efficiency of programs; assure the protection of children, youth, and other vulnerable populations; strengthen families; and foster sound growth and development of children, youth and their families.

The Division provides guidance, analysis, technical assistance and oversight in ACF on: child, youth and family development; child safety; statistical, policy and program analysis; surveys, research and evaluation methodologies; demonstration testing and model development; synthesis and dissemination of research and demonstration findings; and application of emerging technologies to improve the effectiveness of programs and service delivery.

The Division conducts, manages, and coordinates major cross-program, leading-edge research, demonstration, and evaluation studies; develops policy-relevant research priorities; and manages and conducts statistical, policy, and program analyses related to strengthening families. Division staff also provides consultation, coordination, direction and support for research activities related to strengthening families across ACF programs.

Dated: July 10, 2012.
George H. Sheldon,
Acting Assistant Secretary for Children and Families.

[FR Doc. 2012-19019 Filed 8-6-12; 8:45 am]

BILLING CODE 4184-79-P